DEPARTMENT OF HEALTH AND HUMAN SERVICES

Centers for Disease Control and Prevention

Government-Owned Inventions; Availability for Licensing

AGENCY: National Institute for Occupational Safety and Health, Technology Transfer Office, Centers for Disease Control and Prevention, Department of Health and Human Services.

ACTION: Notice.

SUMMARY: The inventions listed below are owned by an agency of the United States Government and are available for licensing in the United States (U.S.) in accordance with 35 U.S.C. 207, to achieve expeditious commercialization of results of federally funded research and development U.S. and foreign patent applications have been filed or are expected to be filed in the near future, to extend market coverage for companies, and may also be available for Licensing.

ADDRESSES: Licensing information may be obtained by contacting Suzanne Seavello Shope, J.D., Technology Licensing and Marketing Scientist, Technology Transfer Office, Centers for Disease Control and Prevention (CDC), Mailstop K-79, 4770 Buford Highway, Atlanta, GA 30341, telephone (770) 488-8613; facsimile (770) 488-8615; e-mail sshope@cdc.gov. Information related to the technologies listed below, may be obtained by contacting Kathleen Goedel, Technology Development Coordinator, Office of Research and Technology Transfer, National Institute for Occupational Safety and Health (NIOSH), Centers for Disease Control and Prevention (CDC), 4676 Columbia Parkway, MS C-03, Cincinnati, OH 45226, telephone (513) 533-8686; facsimile (513) 533-8660; or e-mail kgoedel@cdc.gov. A signed Confidential Disclosure Agreement (available under Forms at http://www.cdc.gov/tto) will be required to receive copies of unpublished patent applications and other confidential information.

Method, Apparatus and System for Assessing Conditions (Local Positioning System)

Larry Alan Lee et al.

U.S. Patent Application No. 10/815,111 filed March 31, 2004

CDC Reference No. I-017-03/0—Research Tool

Workers in many outdoor occupations move about frequently during a typical day of work. Certain workers, such as agricultural and construction workers are particularly mobile. The National Institute for Occupational Safety and Health (NIOSH) designed and developed a prototype exposure monitoring system which combines geographical location with up to four real-time sensors and outputs the information to a user-friendly interface. By linking worker location throughout the workday to exposure levels from real-time monitors, Local Positioning System (LPS) units with software processing of data identify and document where to focus exposure analysis and control efforts. Post-processing of LPS data enables researchers, regulatory inspectors, and industry safety and health personnel to map exposure intensity and location, reveal hot spots to identify sources, and provide exposure intensity distributions.

Method and Apparatus for Cough Sound Analysis

William Travis Goldsmith et al.

U.S. Patent No. 6,436,057, Canadian Patent Application No. 2,269,992 filed April 23, 1999

CDC Reference No. I-020-99/0—Research Tool

A fast, simple, and reliable method and apparatus for recording cough sounds for diagnosing pulmonary disorders and diseases. This method uses signal analysis techniques to extract quantitative information from recorded cough sound pressure waves. The generated data can be used to diagnose pulmonary disorders and diseases as well as track the effectiveness of treatment regimes over time. The method can also be used to quickly and reliably screen individuals at risk of pulmonary disorders and diseases. A system according to one embodiment includes a mouthpiece connected to the proximal end of a tube. The distal end of the tube is connected to a flexible tube. A microphone is attached to the tube between the distal and proximal ends thereof for recording sound pressure waves. A calculated cough sound index (CSI) can be used in diagnostic applications.

Auscultatory Training System

Walter McKinney, et al.

U.S. Patent Application No. 10/135,964 filed April 29, 2002, Canadian Application No. 2,382,786 filed April 22, 2002

CDC Reference No. I-037-00/0—Research Tool

This auscultatory training apparatus includes a database of prerecorded physiological sounds (e.g., lung, bowel, or heart sounds) stored on a computer for playback. A user friendly, graphical interface software program is stored on the computer for use with a conventional computer mouse. The program allows a user to select prerecorded sounds for playback. In addition, the program is operable to generate an inverse model of the playback system in the form of a digital filter. The inverse model processes the selected sound to cancel the distortions of the playback system so that the sound is accurately reproduced. The program also permits the extraction of a specific sound component from a prerecorded sound so that only the extracted sound component is audible during playback. As well as a teaching tool to instruct the user on various body sounds, this invention could have applications as a diagnostic screening tool and as a telemedicine tool.

Imaging/Motorized Nail Press: Automated Instrumentation for the Assessment of Peripheral Vascular Function

Anne M. Brumfield, et al.

U.S. Patent Application No. 60/578,174 filed on June 8, 2004, Australia Patent Application No. 2004203059 filed on July 6, 2004, Canada Patent Application No. 2,474,841

CDC Reference No. I-028-02—Research Tool

The nail press test has been used by clinicians to assess peripheral circulatory function. Following a ten second press of the fingernail, a visual determination of the rate of blood flow return is made, as evidenced by the return of color to the fingernail. Far from being standardized, the results of the test are qualitative and subjective. New instrumentation representing an automated version of the nail press has been built which utilizes a computer-controlled linear stepper motor to apply the desired force level. Blood volume and force measurements are acquired before, during and after the press. This non-invasive and painless test provides physiologically relevant data while standardizing the force application, press duration, and the criteria for determining the precise time of blood flow return.

Dated: February 18, 2005.
James D. Seligman,
Associate Director for Program Services, Centers for Disease Control and Prevention.

[FR Doc. 05-3891 Filed 2-28-05; 8:45 am]

BILLING CODE 4163-18-P